DEPARTMENT OF THE TREASURY

Internal Revenue Service

26 CFR Parts 1 and 602

[TD 9458]

RIN 1545-BI72

Modification to Consolidated Return Regulation Permitting an Election To Treat a Liquidation of a Target, Followed by a Recontribution to a New Target, as a Cross-Chain Reorganization; Correction

AGENCY: Internal Revenue Service (IRS), Treasury.

ACTION: Correction to temporary regulations.

SUMMARY: This document contains corrections to temporary regulations (TD 9458) that were published in the Federal Register on Friday, September 4, 2009 (74 FR 45757) modifying the election under which a consolidated group can avoid immediately taking into account an intercompany item after the liquidation of a target corporation. This modification was made necessary in light of the regulations under section 368 that were issued in October 2007 addressing transfers of assets or stock following a reorganization.

DATES: These regulations are effective on October 1, 2009, and are applicable on September 4, 2009.

FOR FURTHER INFORMATION CONTACT: Mary W. Lyons, (202) 622-7930 (not a toll-free number).

SUPPLEMENTARY INFORMATION:

Background

The temporary regulations that are the subject of this document are under section 1502 of the Internal Revenue Code.

Need for Correction

As published, the temporary regulations (TD 9458) contain errors that may prove to be misleading and are in need of clarification.

Correction of Publication

Accordingly, the publication of the temporary regulations (TD 9458), which were the subject of FR Doc. E9-21324, is corrected as follows:

1. On page 45757, column 2, in the preamble, under the caption DATES:, line 12, the language “§ 1.1502-13(f)(ii)(B)(1) and (2) in effect” is corrected to read “§ 1.1502-13(f)(5)(ii)(B)(1) and (2) in effect”.

2. On page 45758, column 1, in the preamble, under the paragraph heading “1. Results Prior to the Issuance of § 1.368-2(k) Regulations”, last line of the third paragraph of the column, the language “accomplished. See § 1.1502-13(a)(1)).” is corrected to read “accomplished. See § 1.1502-13(a)(1).”.

3. On page 45758, column 2, in the preamble, under the paragraph heading “2. Results After the Issuance of § 1.368-2(k) Regulations”, line 7 from the bottom of the first paragraph of the column, the language “of assets, and would no longer be” is corrected to read “of assets, and could no longer be”.

4. On page 45758, column 3, in the preamble, under the paragraph heading “5. Effective/Applicability Date”, line 10, the language “13(f)(ii)(B)(1) and (2) in effect prior to” is corrected to read “13(f)(5)(ii)(B)(1) and (2) in effect prior to”.

LaNita Van Dyke,
Chief, Publications and Regulations Branch, Legal Processing Division, Associate Chief Counsel, (Procedure and Administration).

[FR Doc. E9-23646 Filed 9-30-09; 8:45 am]

BILLING CODE 4830-01-P